DEPARTMENT OF ENERGY

Federal Energy Regulatory Commission

[Docket No. EC02-72-000, et al.]

NEO California Power LLC, et al.; Electric Rate and Corporate Regulation Filings

June 5, 2002.

The following filings have been made with the Commission. The filings are listed in ascending order within each docket classification.

1. NEO California Power LLC

[Docket Nos. EC02-72-000 and EL02-92-000]

Take notice that on May 29, 2002, NEO California Power LLC (Applicant) filed with the Federal Energy Regulatory Commission (Commission) an application pursuant to Section 203 of the Federal Power Act for authorization, to the extent necessary of the disposition of jurisdictional facilities in connection with a sale and leaseback transaction involving generating facilities consisting of 32 natural gas reciprocating engine sets located in California. Applicant also requests the Commission to issue an order disclaiming jurisdiction over certain passive participants in the transaction.

Comment Date: June 19, 2002.

2. CPN Bethpage 3rd Turbine Inc.

[Docket No. EG02-140-000]

Take notice that on June 3, 2002, CPN Bethpage 3rd Turbine Inc. (Applicant) filed with the Federal Energy Regulatory Commission (Commission) an application for determination of exempt wholesale generator status pursuant to part 365 of the Commission's regulations. Applicant, a Delaware corporation, proposes to own and operate a 45 megawatt simple cycle natural gas-fired combustion turbine electric generating facility located in Hicksville, New York.

Comment Date: June 26, 2002.

3. TXU Generation Company LP

[Docket No. EG02-141-000]

Take notice that on May 31, 2002, TXU Generation Company LP (TXU Generation) filed with the Federal Energy Regulatory Commission (Commission) a notice of material change and application for Commission (Commission) redetermination of exempt wholesale generator status pursuant to Part 365 of the Commission's regulations.

TXU Generation currently is an EWG that presently owns and operates certain eligible facilities, and operates, but does not own, certain other eligible facilities, identified in Docket Number EG02-54.

TXU Generation plans to acquire, own and operate a gas-fired electrical generation facility consisting of three combustion turbines and one steam turbine with a net electrical generating capacity of approximately 257 megawatts (MW) located near the City of Sweetwater in Nolan County, Texas.

Comment Date: June 26, 2002.

4. Montcalm County Renaissance Trust

[Docket No. EG02-142-000]

Take notice that on May 30, 2002, Montcalm County Renaissance Trust, 1000 Louisiana, Suite 5800, Houston, Texas filed with the Federal Energy Regulatory Commission (Commission) an application for determination of exempt wholesale generator status pursuant to Part 365 of the Commission's Regulations.

Comment Date: June 26, 2002.

5. NRG 2002 Trust

[Docket No. EG02-143-000]

Take notice that on May 30, 2002, NRG 2002 Trust, a Delaware statutory business trust with its principal place of business at c/o Wilmington Trust Company, Rodney Square North, 1100 North Market Street, Wilmington, Delaware 19890-000l (the Applicant), filed with the Federal Energy Regulatory Commission (Commission) an application for determination of exempt wholesale generator status pursuant to Part 365 of the Commission's regulations.

Pursuant to a sale/leaseback transaction, the Applicant is acquiring title to generating facilities consisting of 32 natural gas reciprocating engine sets located in California (the Facilities). The Applicant will lease the Facilities to NEO California Power LLC, a Delaware limited liability company.

Comment Date: June 26, 2002.

6. Puget Sound Energy, Inc.

[Docket No. ER02-1918-000]

Take notice that Puget Sound Energy, Inc., on May 29, 2002, tendered for filing an Agreement for the Installation of Electrical Facilities—Bow Lake/North SeaTac and Amendment No. 1 to Agreement for the Installation of Electrical Facilities—Bow Lake/North SeaTac. Puget Sound Energy requests an effective date of April 20, 2001 for these filings.

The filings reflect an agreement between Puget Sound Energy and the Port of Seattle or the installation of, and payment for, certain substation facilities for service to Seattle Tacoma International Airport, and the Port of Seattle.

Copies of the filing were served upon the parties listed in the certificate of service.

Comment Date: June 19, 2002.

7. Oklahoma Gas and Electric Company

[Docket No. ER02-1919-000]

Take notice that on May 29, 2002, Oklahoma Gas and Electric Company (OG&E) submitted for filing a service agreement for power sales (the Agreement) between OG&E and Purcell Public Works Authority (Purcell) under OG&E's Power Sales Tariff.

OG&E requests an effective date of June 1, 2002 for the Agreement. Accordingly, OG&E requests waiver of the Commission's notice requirements. Copies of this filing were served upon Purcell and the Oklahoma Corporation Commission.

Comment Date: June 19, 2002.

8. DukeSolutions, Inc.,

[Docket No. ER02-1920-000]

Take notice that on May 29, 2002, DukeSolutions, Inc. (DukeSolutions) tendered for filing a Notice of Cancellation of its Market-Based Rate Schedule, FERC Electric Rate Schedule No. 1. DukeSolutions requests an effective date of May 30, 2002 for the cancellation.

Comment Date: June 19, 2002.

9. El Paso Electric Company

[Docket No. ER02-1921-000]

Take notice that on May 29, 2002, El Paso Electric Company (EPE) tendered for filing an executed interconnection Agreement (Agreement) between EPE and Public Service Company of New Mexico. EPE seeks an effective date of May 23, 2002 for the Agreement.

Comment Date: June 19, 2002.

10. Xcel Energy Services Inc.

[Docket No. ER02-1922-000]

Take notice that on May 29, 2002, Xcel Energy Services Inc. (XES) on behalf of Southwestern Public Service Company (SPS), submitted for filing Amendment No. 2 to the Commitment and Dispatch Service Agreement between SPS and Golden Spread Electric Cooperative, Inc. (Golden Spread), SPS Rate Schedule FERC No. 133. A copy of this filing has been served on Golden Spread and the applicable state commissions.

Comment Date: June 19, 2002.

11. TECO EnergySource, Inc.

[Docket No. ER02-1923-000]

Take notice that on May 29, 2002, TECO EnergySource, Inc. (TES) tendered for filing a request to amend the Western Systems Power Pool (WSPP) Agreement to include TES as a participant pursuant to section 205 of the Federal Power Act.

A copy of this filing has been served on the WSPP Executive Committee and on Michael E. Small, General Counsel to the WSPP.

Comment Date: June 19, 2002.

12. Tenaska Alabama Partners, L.P.

[Docket No. ER02-1924-000]

Take notice that on May 30, 2002, Tenaska Alabama Partners, L.P., 1044 North 115 Street, Suite 400, Omaha, Nebraska 68154 (Tenaska Alabama), filed with the Federal Energy Regulatory Commission (Commission) the Fuel Conversion Services Agreement between Tenaska Alabama and Williams Energy Marketing & Trading Company (Williams) dated as of September 5, 1999, as amended as of January 8, 2000 (FCSA). The filing is made pursuant to Tenaska Alabama's authority to sell power at market-based rates under its Market-Based Rate Tariff, Rate Schedule FERC No. 1, Original Volume No. 1, approved by the Commission on February 9, 2000, in Docket No. ER00-840-000.

Comment Date: June 20, 2002.

13. PJM Interconnection, L.L.C.

[Docket No. ER02-1925-000]

Take notice that on May 30, 2002, PJM Interconnection, L.L.C. (PJM), tendered for filing the following executed agreements: four umbrella service agreements for firm point-to-point transmission service for Dynegy Power Marketing, Inc. (Dynegy).

PJM requested a waiver of the Commission's notice regulations to permit effective date of May 1, 2002 for the agreements, the date the agreements were executed.

Copies of this filing were served upon Dynegy, as well as the state utility regulatory commissions within the PJM region.

Comment Date: June 20, 2002.

14. Exelon Generation Company, LLC

[Docket No. ER02-1926-000]

Take notice that on May 30, 2002, Exelon Generation Company, LLC (Exelon Generation), submitted for filing power sales service agreements under Exelon Generation's wholesale power sales tariff, FERC Electric Tariff Original Volume No. 2, between Exelon Generation and the following customers: ANP Funding I, LLC; Bethlehem Steel Corporation; Dominion Energy Marketing, Inc.; Consolidated Edison Energy, Inc.; Peoples Energy Services Corporation; and Virginia Electric and Power Company.

Exelon Generation requests that each of the Service Agreements be accepted for filing effective as of May 1, 2002.

Comment Date: June 20, 2002.

15. Somerset Windpower LLC

[Docket No. ER02-1927-000]

Take notice that on May 30, 2002, Somerset Windpower LLC (Somerset), 1001 McKinney, Suite 1740, Houston Texas 77002, filed with the Federal Energy Regulatory Commission (Commission) the Amended and Restated Power Purchase Agreement by and between Somerset and Exelon Generation Company, LLC (Exelon), dated as of March 30, 2002 (ARPPA). This ARPPA amends and restates a Power Purchase Agreement between Somerset and Exelon dated April 4, 2001. The filing is made pursuant to Somerset's authority to sell power at market-based rates under its Market-Based Rate Tarriff, Second Revised Sheet No. 1, Original Volume No. 1 (Docket No. ER01-2139-002), approved by the Commission on July 20, 2001 in Docket No. ER01-2139-001.

16. Mill Run WindPower LLC

[Docket No. ER02-1928-000]

Take notice that on May 29, 2002, Mill Run Windpower LLC (Mill Run), 1001 McKinney, Suite 1900, Houston Texas 77002, filed with the Federal Energy Regulatory Commission (Commission) the Power Purchase Agreement by and between Mill Run and Exelon Generation Company, LLC (Exelon), dated as of March 30, 2002, (ARPPA). This ARPPA amends and restates a Power Purchase Agreement between Mill Run and Exelon dated February 14, 2001. The filing is made pursuant to Mill Run's authority to sell power at market-based rates under its Market-Based Rate Tariff, Original Sheet No. 1, Original Volume No. 1, approved by the Commission on July 17, 2001 in Docket No. ER01-1710-001.

Comment Date: June 20, 2002.

17. Commonwealth Electric Company

[Docket No. ER02-1929-000]

Take notice that on May 30, 2002, Commonwealth Electric Company (Commonwealth) tendered for filing with the Federal Energy Regulatory Commission (Commission) a non-firm point-to-point transmission service agreement between Commonwealth and NRG Power Marketing Inc. (NRG). Commonwealth states that the service agreement sets out the transmission arrangements under which Commonwealth will provide non-firm point-to-point transmission service to NRG under Commonwealth's open access transmission tariff accepted for filing in Docket No. ER01-2291-001.

Commonwealth requests that the service agreement become effective on May 1, 2002.

Comment Date: June 20, 2002.

18. Cambridge Electric Light Company

[Docket No. ER02-1930-000]

Take notice that on May 30, 2002, Cambridge Electric Light Company (Cambridge Electric) tendered for filing a non-firm point-to-point transmission service agreement between Cambridge Electric and NRG Power Marketing Inc. (NRG). Cambridge Electric states that the service agreement sets out the transmission arrangements under which Cambridge Electric will provide non-firm point-to-point transmission service to NRG under Cambridge Electric's open access transmission tariff accepted for filing in Docket No. ER01-2291-001. Cambridge Electric requests that the service agreement become effective on May 1, 2002.

Comment Date: June 20, 2002.

19. Commonwealth Edison Company

[Docket No. ER02-1931-000]

Take notice that on May 30, 2002, Commonwealth Edison Company (ComEd) submitted for filing a Service Agreement for Non-Firm Point-to-Point Transmission Service and a Service Agreement for Short-Term Firm Point-to-Point Transmission Service between ComEd and Dominion Energy Marketing, Inc. (Dominion) and an Agreement for Dynamic Scheduling of Transmission Service (Scheduling Agreement) between ComEd and Exelon Generation Company, LLC (EXGN) under ComEd's FERC Electric Tariff, Second Revised Volume No. 5.

ComEd seeks an effective date of April 30, 2002 for the Agreements with Dominion and an effective date of May 1, 2002 for the Agreement with EXGN and, accordingly, seeks waiver of the Commission's notice requirements. ComEd states that a copy of this filing has been served on Dominion, EXGN, and the Illinois Commerce Commission.

Comment Date: June 20, 2002.

20. Southwestern Electric Power Company

[Docket No. ER02-1932-000]

Take notice that on May 30, 2002, Southwestern Electric Power Company (SWEPCO) submitted for filing actuarial reports in support of the amounts to be collected in SWEPCO's 2001 actual and 2002 projected formula rates for post-employment benefits other than pensions as directed by the Statement of Financial Accounting Standard No. 106 (SFAS 106), issued by the Financial Accounting Standards Board, and the collection in such formula rates of other post-employment benefits as directed by SFAS 112.

SWEPCO seeks an effective date of January 1, 2001 and, accordingly, requests waiver of the Commission's notice requirements. SWEPCO has served copies of the transmittal letter on all of its formula rate customers, the Arkansas Public Service Commission, the Louisiana Public Service Commission and the Public Utility Commission of Texas.

Comment Date: June 20, 2002.

21. FirstEnergy Solutions Corp.

[Docket No. ER02-1933-000]

Take notice that on May 30, 2002, FirstEnergy Solutions Corp. (FE Solutions) submitted for filing first revised service agreements between FE Solutions and its affiliates, Metropolitan Edison Company and Pennsylvania Electric Company, under FE Solutions' market-based rate power sales tariff, FirstEnergy Solutions Corp., FERC Electric Tariff, Original Volume No.1.

Comment Date: June 20, 2002.

22. Entergy Services, Inc.

[Docket No. ER02-1934-000]

Take notice that on May 30, 2002, Entergy Services, Inc., on behalf of Entergy Louisiana, Inc. (Entergy Louisiana), tendered for filing six copies of a Notice of Termination of the Interconnection and Operating Agreement and generator Imbalance Agreement between Entergy Louisiana and St. Charles Development Company, L.L.C.

Comment Date: June 20, 2002.

23. Ameren Services Company

[Docket No. ER02-1935-000]

Take notice that on May 30, 2002, Ameren Services Company (ASC) tendered for filing Firm Point-to-point Services Agreements between ASC and Ameren Energy-Marketing and Reliant Energy. ASC asserts that the purpose of the Agreement is to permit ASC to provide transmission service to the parties pursuant to Ameren's Open Access Transmission Tariff.

Comment Date: June 20, 2002.

24. Ameren Services Company

[Docket No. ER02-1936-000]

Take notice that on May 30, 2002, Ameren Services Company (Ameren Services) tendered for filing unexecuted Network Operating Agreements and unexecuted Service Agreements for Network Integration Transmission Service between Ameren Services and Ameren Energy Marketing Company, EnerStar Power Corporation d/b/a Edgar Electric Cooperative Association and Mount Carmel Public Utility Company (the parties). Ameren Services asserts that the purpose of the Agreements is to permit Ameren Services to provide transmission service to the parties pursuant to Ameren's Open Access Tariff.

Comment Date: June 20, 2002.

25. Central Vermont Public Service Corporation

[Docket No. ER02-1937-000]

Take notice that on May 30, 2002, Central Vermont Public Service Corporation (CVPS) tendered for filing the Actual 2001 Cost Report required under Paragraph Q-1 on Original Sheet No. 18 of the Rate Schedule FERC No. 135 (RS-2 Rate Schedule) under which Central Vermont Public Service Corporation (Company) sells electric power to Connecticut Valley Electric Company Inc. (Customer). The Actual 2001 Cost Report supports a refund to the Customer in the amount of $875,731.61, including interest, as provided by the RS-2 Rate Schedule. The Actual 2001 Cost Report reflects changes to the RS-2 Rate Schedule which were approved by the Commission's June 6, 1989 order in Docket No. ER88-456-000.

Copies of the filing were served upon the Customer, the New Hampshire Public Utilities Commission, and the Vermont Public Service Board.

Comment Date: June 20, 2002.

26. Progress Energy Inc. on behalf of Carolina Power & Light Company

[Docket No. ER02-1938-000]

Take notice that on May 30, 2002, Carolina Power & Light Company (CP&L) tendered for filing an executed Service Agreement between CP&L and the following eligible buyer, Progress Ventures, Inc. Service to this eligible buyer will be in accordance with the terms and conditions of CP&L's Market-Based Rates Tariff, FERC Electric Tariff No. 5.

CP&L requests an effective date of May 10, 2002 for this Service Agreement. Copies of the filing were served upon the North Carolina Utilities Commission and the South Carolina Public Service Commission.

Comment Date: June 20, 2002.

27. Louisville Gas and Electric Company/ Kentucky Utilities Company

[Docket No. ER02-1939-000]

Take notice that on May 30, 2002, Louisville Gas and Electric Company (LG&E)/Kentucky Utilities (KU) (hereinafter Companies) tendered for filing an executed extension of the interim interconnection and operating agreement with LG&E Capital Trimble County LLC (TCLC). This agreement extends the time period for the interim interconnection agreement until the first to occur (a) August 31, 2002 or (b) the transfer of the units from TCLC to the Companies.

Comment Date: June 20, 2002.

28. American Electric Power Service Corporation

[Docket No. ER02-1940-000]

Take notice that on May 30, 2002, the American Electric Power Service Corporation (AEPSC), tendered for filing Firm and Non-Firm Point-to-Point Transmission (PTP) Service Agreements for J. Aron and Company and Long-Term Firm PTP Service Agreement Specifications for AEPSC's Power Marketing Organization. These agreements are pursuant to the AEP Companies' Open Access Transmission Service Tariff that has been designated as the Operating Companies of the American Electric Power System FERC Electric Tariff Second Revised Volume No. 6.

AEPSC requests waiver of notice to permit the Service Agreements to be made effective on and after May 1, 2002. A copy of the filing was served upon the Parties and the state utility regulatory commissions of Arkansas, Indiana, Kentucky, Louisiana, Michigan, Ohio, Oklahoma, Tennessee, Texas, Virginia and West Virginia.

Comment Date: June 20, 2002.

29. Tri-State Power, LLC

[Docket No. ER02-1941-000]

Take notice that on May 31, 2002, Tri-State Power, LLC (TSP) tendered for filing with the Federal Energy Regulatory Commission (Commission) two power purchase agreements between Tri-State Generation and Transmission Association, Inc,. (TSGTA)and the Public Service Company of Colorado under which TSGTA agrees to sell electricity from the Limon Generating Station located near Limon, Colorado and the Brighton Generating Station located near Brighton, Colorado to PSCO and an Assignment Contract under which TSGTA assigned its right, title and interest in the Limon and Brighton Contracts to TSP.

Comment Date: June 21, 2002.

30. Tenaska Virginia Partners, L.P.

[Docket No. ER02-1942-000]

Take notice that on May 31, 2002, Tenaska Virginia Partners, L.P., (Tenaska Virginia), which will own and operate a natural gas-fired electric generating facility to be constructed in Fluvanna County, Virginia, submitted for filing with the Federal Energy Regulatory Commission its initial FERC Electric Rate Schedule No. 1 which will enable Tenaska Virginia to engage in the sale of electric energy and capacity at market-based rates.

Comment Date: June 21, 2002.

31. CH Resources, Inc.

[Docket No. ER02-1943-000]

Take notice that on May 31, 2002, CH Resources, Inc. (CHR) tendered for filing a Notice of Cancellation of Service Agreement No. 1 under FERC Electric Tariff, Original Volume No. 1 for Electric Power Sales between CHR and Central Hudson Enterprise Corporation (CHEC). The Notice of Cancellation does not affect any other Service Agreements under FERC Electric Tariff Original Volume No. 1.

Copies of the filing have been served upon Central Hudson Enterprise Corporation (CHEC) and those persons on the service list in this proceeding.

Comment Date: June 21, 2002.

32. Florida Power & Light Company

[Docket No. ER02-1944-000]

Take notice that on May 31, 2002 Florida Power & Light Company (FPL) tendered for filing a Vandolah-Whidden 230 kV Interconnection Agreement between FPL and Florida Power Corporation. FPL proposes to make the Interconnection Agreement effective June 1, 2002.

Comment Date: June 21, 2002.

33. Virginia Electric and Power Company

[Docket No. ER02-1945-000]

Take notice that on May 31, 2002, Virginia Electric and Power Company (the Company), respectfully tendered for filing the following Service Agreement by Virginia Electric and Power Company to Exelon Generation Company, LLC designated as Service Agreement No. 15 under the Company's Wholesale Market-Based Rate Tariff, FERC Electric Tariff, Original Volume No. 6, effective on June 15, 2000.

The Company requests a waiver of the Commission's regulations to permit an effective date of May 1, 2002, as requested by the customer. Copies of the filing were served upon Exelon Generation Company, LLC, the Virginia State Corporation Commission, and the North Carolina Utilities Commission.

Comment Date: June 21, 2002.

34. New England Power Pool

[Docket No. ER02-1946-000]

Take notice that on May 31, 2002, the New England Power Pool (NEPOOL) Participants Committee filed for acceptance materials (1) to permit NEPOOL to expand its membership to include Cross Sound Cable Company, LLC (CSCC), Dominion Energy Marketing, Inc. (DEM), Power Development Company LLC (PDC), Sempra Energy Solutions (SES), and Vermont Yankee Nuclear Power Corporation (VYNPC); and (2) to terminate the membership of Griffin Energy Marketing, LLC (Griffin), FPL Energy Avec LLC (FPL Avec), PEC Energy Marketing (PEC), Berkshire Power Development, Inc. (Berkshire), and EmPower Energy, LLC (EmPower). The Participants Committee requests the following effective dates: March 4, 2002 for the termination of Griffin; May 1, 2002 for the termination of FPL Avec and PEC; June 1, 2002 for commencement of participation in NEPOOL by CSCC, DEM, and PDC and the termination of Berkshire and EmPower; August 1, 2002 for commencement of participation in NEPOOL by SES; and an effective date for commencement of participation in NEPOOL by VYNPC as of the closing date of the sale of the Vermont Yankee Nuclear Power Station to Entergy Nuclear Vermont Yankee.

The Participants Committee states that copies of these materials were sent to the New England state governors and regulatory commissions and the Participants in NEPOOL.

Comment Date: June 21, 2002.

35. Occidental Power Services, Inc.

[Docket No. ER02-1947-000]

Take notice that on May 27, 2002, Occidental Power Services, Inc. (OPSI) petitioned the Federal Energy Regulatory Commission (Commission) for acceptance of Occidental Power Services, Inc. FERC Electric Rate Schedule No. 1; the issuance of certain blanket authorizations, and an authorization to sell electric capacity and energy at market-based rates; and the waiver of certain Commission regulations.

OPSI intends to engage in wholesale electric capacity and energy purchases and sales as an electric power marketer. OPSI is not in the business of electric power generation or transmission. OPSI is affiliated, however, with four “qualifying facilities” under PURPA and proposes to market some affiliate-generated electric power.

OPSI is a wholly owned subsidiary of Occidental Petroleum Corporation, which, through affiliates, explores for, develops, produces and markets crude oil and natural gas and manufactures and markets a variety of basic chemicals as well as specialty chemicals.

Comment Date: June 21, 2002.

36. California Independent System Operator Corporation

[Docket No. ER02-1948-000]

Take notice that on May 31, 2002, the California Independent System Operator Corporation (ISO) filed Fourth Revised Service Agreement No. 116 Under ISO Rate Schedule No. 1, which is a Participating Generator Agreement between the ISO and Wheelabrator Martell, Inc (Wheelabrator). The ISO has revised the PGA to update Schedule 1 of the PGA. The ISO requests an effective date for the filing of May 7, 2002.

The ISO has served copies of this filing upon Wheelabrator and all entities that are on the official service list for Docket No. ER99-2055-000.

Comment Date: June 21, 2002.

37. Biv Generation Company, L.L.C.

[Docket No. ER02-1949-000]

Take notice that on May 31, 2002, BVI Generation Company, L.L.C. (BIV) tendered for filing a Purchase Power Agreement, together with the First Amendment to such agreement, for sales of power pursuant to BIV's Rate Schedule No. 2.

BIV states that its filing is made in compliance with Appendix B, Paragraph 7 of the Letter Order issued in Docket No. ER99-3197, Minergy Neenah L.L.C., et al., 88 FERC ¶ 61,102 (1999), and are to reflect an expansion of BIV's generating facilities.

Comment Date: June 21, 2002.

38. Virginia Electric and Power Company Dominion Energy Marketing, Inc.

[Docket No. ER02-1950-000]

Take notice that on May 29, 2002, Virginia Electric and Power Company (Dominion Virginia Power) and Dominion Energy Marketing, Inc. (Dominion Marketing), (the Applicants) respectfully tendered for filing Designation Sheet to the Service Agreements between Dominion Energy Marketing, Inc. and Borough of Tarentum. Dominion Virginia Power assigns all its rights and obligations to Dominion Marketing pertaining to the following Service Agreements:

Designation Sheet pertaining to Service Agreement dated January 18, 2002, under Docket No. ER02-1036-000 (to be re-designated as Service Agreement No. 4 under Dominion Energy Marketing, Inc.”s FERC Electric Tariff, Original Volume No. 1).

Designation Sheet pertaining to Service Agreement dated January 28, 2002, under Docket No. ER02-1543-000 (to be re-designated as Service Agreement No. 5 under Dominion Energy Marketing, Inc.”s FERC Electric Tariff, Original Volume No. 1).

Copies of the filing were served upon Borough of Tarentum, the Pennsylvania Public Utility Commission, the Virginia State Corporation Commission, and the North Carolina Utilities Commission.

Comment Date: June 19, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-14867 Filed 6-12-02; 8:45 am]

BILLING CODE 6717-01-P